DEPARTMENT OF COMMERCE

National Telecommunications and Information Administration

First Responder Network Authority

Public Combined Board and Board Committees Meeting

AGENCY: First Responder Network Authority (FirstNet Authority), National Telecommunications and Information Administration (NTIA), U.S. Department of Commerce.

ACTION: Announcement of meeting.

SUMMARY: The FirstNet Authority Board will convene an open public meeting of the Board and Board Committees.

DATES: November 17, 2021; 11:00 a.m. to 1:00 p.m. Eastern Standard Time (EST); Washington, DC.

ADDRESSES: The meeting will be held at the Park Hyatt Hotel located at 1201 24th Street NW, Washington, DC 20037. Due to restrictions on the number of people who can be present, members of the public will not be able to attend in-person but may listen to the meeting and view the presentation by visiting the URL: https://stream2.sparkstreetdigital.com/20211117-firstnet.html. If you experience technical difficulty, contact support@sparkstreetdigital.com. WebEx information can also be found on the FirstNet Authority website (FirstNet.gov).

FOR FURTHER INFORMATION CONTACT:

General information: Janell Smith, (202) 257-5929, Janell.Smith@FirstNet.gov.

Media inquiries: Ryan Oremland, (571) 665-6186, Ryan.Oremland@FirstNet.gov.

SUPPLEMENTARY INFORMATION: Background: The Middle Class Tax Relief and Job Creation Act of 2012 (codified at 47 U.S.C. 1401 et seq.) (Act) established the FirstNet Authority as an independent authority within NTIA. The Act directs the FirstNet Authority to ensure the building, deployment, and operation of a nationwide interoperable public safety broadband network. The FirstNet Authority Board is responsible for making strategic decisions regarding the operations of the FirstNet Authority.

Matters to be Considered: The FirstNet Authority will post a detailed agenda for the Combined Board and Board Committees Meeting on FirstNet.gov prior to the meeting. The agenda topics are subject to change. Please note that the subjects discussed by the Board and Board Committees may involve commercial or financial information that is privileged or confidential, or other legal matters affecting the FirstNet Authority. As such, the Board may, by majority vote, close the meeting only for the time necessary to preserve the confidentiality of such information, pursuant to 47 U.S.C. 1424(e)(2).

Other Information: The public Combined Board and Board Committees Meeting is accessible to people with disabilities. Individuals requiring accommodations, such as sign language interpretation or other ancillary aids, are asked to notify Janell Smith at (202) 257-5929 or email: Janell.Smith@FirstNet.gov at least five (5) business days (November 10) before the meeting.

Records: The FirstNet Authority maintains records of all Board proceedings. Minutes of the Combined Board and Board Committees Meeting will be available on FirstNet.gov.

Dated: November 1, 2021.
Janell Smith,
Board Secretary, First Responder Network Authority.

[FR Doc. 2021-24128 Filed 11-4-21; 8:45 am]

BILLING CODE P